SMALL BUSINESS ADMINISTRATION

[Disaster Declaration #13029 and #13030]

Kentucky Disaster Number KY-00044

AGENCY: U.S. Small Business Administration.

ACTION: Amendment 1.

SUMMARY: This is an amendment of the Presidential declaration of a major disaster for the Commonwealth of Kentucky (FEMA-4057-DR), dated 03/06/2012.

Incident: Severe Storms, Tornadoes, Straight-line Winds, and Flooding.

Incident Period: 02/29/2012 through 03/03/2012.

Effective Date: 03/09/2012.

Physical Loan Application Deadline Date: 05/07/2012.

EIDL Loan Application Deadline Date: 12/06/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the Commonwealth of Kentucky, dated 03/06/2012 is hereby amended to include the following areas as adversely affected by the disaster:

Primary Counties: (Physical Damage and Economic Injury Loans): Bath, Campbell, Carroll, Grant, Martin, Montgomery, Rowan.

Contiguous Counties: (Economic Injury Loans Only):

Indiana: Jefferson, Switzerland.

Kentucky: Bourbon, Clark, Fleming, Gallatin, Henry, Lewis, Nicholas, Owen, Pike, Scott, Trimble.

West Virginia: Mingo.

All other information in the original declaration remains unchanged.

(Catalog of Federal Domestic Assistance Numbers 59002 and 59008)

Joseph P. Loddo,
Acting Associate Administrator for Disaster Assistance.

[FR Doc. 2012-6686 Filed 3-19-12; 8:45 am]

BILLING CODE 8025-01-P